FEDERAL ELECTION COMMISSION

11 CFR Parts 100 and 104

[Notice 2008-09]

Reporting Contributions Bundled by Lobbyists, Registrants and the PACs of Lobbyists and Registrants

AGENCY: Federal Election Commission.

ACTION: Proposed rule; notice of public hearing.

SUMMARY: The Federal Election Commission is announcing a public hearing on the proposed rules governing the disclosure of information about bundled contributions provided by certain lobbyists, registrants and their PACs.

DATES: The hearing will be held on Wednesday, September 17, 2008 and will begin at 9:30 a.m.

ADDRESSES: Commission hearings are held in the Commission's ninth floor meeting room, 999 E Street, NW., Washington, DC.

FOR FURTHER INFORMATION CONTACT: Ms. Amy L. Rothstein, Assistant General Counsel, or Ms. Cheryl A.F. Hemsley, Attorney, 999 E Street, NW., Washington, DC 20463, (202) 694-1650 or (800) 424-9530.

SUPPLEMENTARY INFORMATION: On November 6, 2007, the Commission published a Notice of Proposed Rulemaking (“NPRM”) proposing rules governing the disclosure of information about bundled contributions provided by certain lobbyists, registrants and their PACs. Reporting Contributions Bundled by Lobbyists, Registrants and the PACs of Lobbyists and Registrants, 72 FR 62,600 (Nov. 6, 2007). The deadline for comments on the NPRM was Nov. 30, 2007. In the NPRM, the Commission stated that it would announce the date of a hearing at a later date.

Accordingly, the hearing will be held on Wednesday, September 17, 2008 (see DATES and ADDRESSES, above). Witnesses will be limited to those individuals who indicated in their timely comments on the NPRM that they wished to testify at the hearing. Individuals who plan to attend and require special assistance, such as sign language interpretation or other reasonable accommodations, should contact Mary Dove, Commission Secretary, at (202) 694-1040, at least 72 hours prior to the hearing date.

Dated: September 2, 2008.
On behalf of the Commission.
Ellen Weintraub,
Commissioner, Federal Election Commission.

[FR Doc. E8-20810 Filed 9-5-08; 8:45 am]

BILLING CODE 6715-01-P